DEPARTMENT OF DEFENSE

Department of the Army

Availability for Non-Exclusive, Exclusive, or Partially Exclusive Licensing of U.S. Provisional Patent Application Concerning Skin Temperature Feedback for Microclimate Cooling

AGENCY: Department of the Army, DoD.

ACTION: Notice.

SUMMARY: In accordance with 37 CFR 404.6 and 404.7, announcement is made of the availability for licensing of the invention described in the U.S. Provisional Patent Application Docket No. RIEM 03-28X entitle “Skin Temperature Feedback for Microclimate Cooling.” The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The present invention relates in general to methods for removing heat from humans and in particular to methods for removing heat from humans using liquid cooling garments.

Brenda S. Bowen,
Alternate Army Federal Register Liaison Officer.

[FR Doc. 04-5971 Filed 3-16-04; 8:45 am]

BILLING CODE 3710-08-M